DEPARTMENT OF TRANSPORTATION

Office of the Secretary

Aviation Proceedings, Agreements Filed During the Week Ending June 23, 2000

The following Agreements were filed with the Department of Transportation under the provisions of 49 U.S.C. 412 and 414. Answers may be filed within 21 days after the filing of the application.

Docket Number: OST-2000-7549.

Date Filed: June 19, 2000.

Parties: Members of the International Air Transport Association.

Subject:

PTC2 EUR 0316 dated May 23, 2000 (Issuance).

PTC2 EUR 0325 dated June 16, 2000 (Adoption)

Mail Vote 076—Resolution 078y

TC2 Pex Fares Within Europe

Intended effective date: June 23, 2000

Docket Number: OST-2000-7566.

Date Filed: June 22, 2000.

Parties: Members of the International Air Transport Association.

Subject:

CAC/28/Meet/006/00 dated June 8, 2000

Finally Adopted Resos R1-6

Minutes—CAC/28/Meet/005/00 dated June 7, 2000

Intended effective date: October 1, 2000

Docket Number: OST-2000-7579.

Date Filed: June 23, 2000.

Parties: Members of the International Air Transport Association.

Subject:

PTC12 USA-EUR 0099 dated June 20, 2000.

North Atlantic USA-Europe Expedited Resolutions 002v and 054s

Intended effective date: August 1, 2000

Dorothy Y. Beard,
Federal Register Liaison.

[FR Doc. 00-16825 Filed 7-3-00; 8:45 am]

BILLING CODE 4910-62-P